DEPARTMENT OF HEALTH AND HUMAN SERVICES

Office of the Secretary

Office of the Assistant Secretary for Administration and Management; Organizations, Functions and Delegations of Authority

Part A, Office of the Secretary, Statement of Organization, Functions, and Delegations of Authority for the Department of Health and Human Services (HHS) is being amended at Chapter AJ, Office of the Assistant Secretary for Administration and Management, which was last amended at 72 FR 2282-2283, dated January 17, 2007; and the Office of Human Resources (AJA) as last amended at 71 FR 38884-38888, dated July 10, 2006. The Notice will revise the functional statement for the Office of Human Resources. The changes are as follows:

I. Under Section AJ.20 Functions, Paragraph C, “Office of Human Resources (AJA), delete in its entirety and replace with the following:

Section AJA.10 Organization. The Office of Human Resources (OHR) is headed by a Deputy Assistant Secretary for Human Resources (DASHR) who reports to the Assistant Secretary for Management and Administration (ASAM), and consists of the following components:

• Immediate Office (AJA).

• Office of Strategic Planning and Performance Alignment (AJA1).

• Accountability and Analysis Division (AJAA1).

• Workforce and Career Development Division (AJAA2).

• Executive Resources Division (AJAA3).

• Office of Service Delivery and Management (AJAB).

• Employee and Labor Relations (AJAB1).

• Talent Management Division (AJAB2).

• Human Resources Center (PJ1, PJ2, PJ4).

• Talent Resources Center (PJ5)

Section AJA.20 Functions.

1. The Immediate Office (AJA): The Immediate Office provides leadership to the development and assessment of the Department's human resources and human capital programs and policies. In coordination with the Operating Divisions (OPDIV), designs human resource programs that support and enhance the HHS missions. Serves as the principal source of advice on all aspects of Department-wide organizational analysis including: Planning for new organizational elements; evaluating current organizational structures for effectiveness; and conducting the review process for reorganization proposals; manages the reorganization process for the Office of the Secretary (OS) requiring the Secretary's signature and the ASAM's; administers the Department's system for review, approval and documentation of delegations of authority; develops Department-wide policy and provides technical assistance on the use and application of delegations of authority; advises senior officials within the Department on delegations of authority, coordinates review of proposed delegations requiring the Secretary's or other senior officials’ approval; analyzes and makes recommendations related to legislative proposals with potential impact upon the Department's organizational structure or managerial procedures; manages the Departmental Standard Administrative Code (SAC) system; and provides special management review services for selected activities.

2. Office of Strategic Planning and Performance Alignment (AJAA): The Office of Strategic Planning and Performance Alignment (OSPPA) is headed by an Associate Deputy Assistant Secretary who reports directly to the Assistant Secretary for Human Resources. OSPPA provides technical assistance to the OPDIVs in building the capacity to evaluate the effectiveness of their human resource programs and policies, including the development of performance standards. OSPPA provides oversight of the Department human resources activities relating to human capital, performance management, major Administrative and Department initiatives, human resources accountability; workforce and career development, and the executive resources.

a. Accountability and Analysis Division (AJAA1): The Accountability and Analysis Division (AAD) will: (a) Promote and support OPDIV capacity building efforts, including innovative approaches to human resources management; (b) provide strategic advice to the Deputy Assistant Secretary for Human Resources, the Assistant Secretary for Administration and Management, and the Secretary on those initiatives having major workforce implications; (c) evaluate major human resources policies and programs for the Department to determine the effectiveness; (d) is responsible for the Department's human resources accountability system; (f) have responsibility for planning accountability policy and programs, (and the development of the Department's Human Capital Accountability Plan); and (g) responsible for developing, managing, and directing the Department's policy, plans and guidance for assessment and performance improvement functions in the areas of employee surveys and human resource performance measurement.

b. Division of Workforce and Career Development (AJAA2): The Division of Workforce and Career Development (DWCD) responsibilities include requirements (i.e., 5 U.S.C. 4103 and 4121) mandated under the Federal Workforce Flexibility Act of 2004: (a) Formulate and oversee the implementation of Department-wide policies, regulations, procedures, and measures to ensure that training and development plans and programs are aligned with HHS strategic goals and performance objectives, and ensure alignment of training activities across the Department; (b) formulate, implement, evaluate and measure employee development activities; (c) serve as the central HHS reference point for inquiries, guidance, interpretation and program monitoring and evaluation for training and workforce development planning; (d) provide Department-level workforce planning guidance; (e) working with HHS University, develop new and enhance existing Department-wide training program (e.g., Emerging Leaders Programs, Senior Executive Service Candidate Development Program, etc.) and review training programs proposed by OPDIVs, STAFFDIVs, or Human Resources Centers; (f) serve as the central HHS contact point and representative to non-government and government training communities and their auditors on training and development matters; and (g) monitor the implementation of a Department-wide automated training program and establishes.

c. Executive Resources Division (AJAA3): The Executive Resources Division (ERD): (a) Is responsible for the development, coordination, policy formulation and administration of the Department's Executive Resources Management program, excluding those functions associated with executive development; (b) serve as the central point of contact for executive resources operational matters, advising on a broad range of executive personnel management matters; (c) administer most aspects of the Senior Executive Service (SES) program and coordinating analytical studies impacting on executive personnel; (d) provide support as required to the Executive Secretary of the Executive Resources Board; (e) manage the SES control and allocation program, provides recruitment assistance when needed, and provide leadership and oversee the executive staffing; (f) review key position cases, expert and consultant appointment, Section 209(f) of Title 42, and other employment cases requiring Departmental approval; and (g) maintain Schedule C appointment control and principal position information listing.

3. Office of Service Delivery and Management (AJAB): The Office of Service Delivery and Management (OSDM) is headed by an Associate Deputy Assistant Secretary who reports directly to the Deputy Assistant Secretary for Human Resources. The OSDM has oversight responsibilities for the Office of Human Resources' budget, IT systems; and coordinates human resources activities related to employee and labor relations; Talent Management and the Human Resources Centers.

a. Employee and Labor Relations Division (AJAB1): The Labor and Employee Relations Division (LERD): (a) Promote labor-management cooperation and promulgate labor-management relations policy and programs for the Department; (b) provider leadership, involvement, and training; (c) provide guidance and support for conducting labor management negotiations; (d) review negotiated agreement(s) or supplemental agreement(s) in accordance with the Federal Service Labor Management Relations Statutes requirements; (e) review local agreements and settlement agreement for compliance with applicable labor relations policy and collective bargaining agreements; (f) serve as the Department's focal point for liaison on personnel and labor relations issues with the Office of Personnel Management, the General Accounting Office, the Merit Systems Protection Board, and the Federal labor Relations Authority; (g) develop, implement and interpret Departmental and Government-wide employee relations policy; (h) provides technical advice and assistance on employee relations issues to OPDIVs; and (i) plan and develop personnel policies and programs related to benefits, and the Benefit Officer serves as expert in providing technical assistance to OPDIVs and STAFFDIVs. ELRD is responsible following activities related to performance management: (a) Plan and develop personnel policies and programs; (b) formulate and implement policies; and (c) provide technical assistance to the OPDIV in these areas. Also provide oversight and guidance for HHS policy related to awards, benefits and leave, worker's compensation, work life (including childcare subsidy and telework), and the employee assistance program.

b. Talent Management Division (AJAB2): The Talent Management Division (TMD): (a) Provides leadership to the planning and development of human resource policies and programs relevant to employment, staffing, recruitment and placement; compensation; position management and classification that support and enhance the Department's mission; (b) in coordination with the OPDIVs, formulates HHS policies pertaining to the above; (c) provides technical assistance to the HR Centers/Offices and OPDIVs in the proper application of Federal human resource management laws, regulations, and policies; and (d) accomplishes required human capital initiatives as required by the Office of Personnel Management, the Office of Management and Budget or other organizations.

II. Continuation of Policy: Except as inconsistent with this reorganization, all statements of policy and interpretations with respect to the Office of Human Resources, Office of the Assistant Secretary for Administration and Management, hereforeto issued and in effect prior to this reorganization are continued in full force and effect.

III. Delegation of Authority: All delegations and redelegations of authority made to officials and employees of the Office of Human Resources (AJA) will continue in them or their successors pending further redelegation, provided they are consistent with this reorganization.

IV. Funds, Personnel and Equipment: Transfer of organizations and functions affected by this reorganization shall be accompanied by direct and support funds, positions, personnel, records, equipment, supplies and other sources.

Dated: July 12, 2007.
Joe W. Ellis,
Assistant Secretary for Administration and Management.

[FR Doc. 07-3547 Filed 7-20-07; 8:45 am]

BILLING CODE 4150-04-M